DEPARTMENT OF THE INTERIOR

Fish and Wildlife Service

[FWS-R9-IA-2009-N266]

[96300-1671-0000-P5]

Receipt of Applications for Permit

AGENCY: Fish and Wildlife Service, Interior.

ACTION: Notice of receipt of applications for permit.

SUMMARY: We, the U.S. Fish and Wildlife Service, invite the public to comment on the following applications for permits to conduct certain activities with endangered species. The Endangered Species Act requires that we invite public comment on these permit applications.

DATES: Written data, comments or requests must be received by January 15, 2010.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Submit your written data, comments, or requests for copies of the complete applications to the address shown in ADDRESSES.

Applicant: The Phoenix Zoo, Phoenix, AZ, PRT-230742

The applicant requests a permit to re-export one captive-born male jaguar (Panthera onca) to Centro Ecologico de Sonora, Mexico, for the purpose of enhancement of the survival of the species.

Applicant: Virginia Safari Park and Preservation Center, Inc., Natural Bridge, VA, PRT-228648

The applicant requests a permit to import two female cheetahs (Acinonyx jubatus) captive-born at De Wildt Cheetah Breeding Centre, De Wildt, South Africa, for the purpose of enhancement of the survival of the species.

Applicant: National Zoological Park, Washington, DC, PRT-233622

The application requests a permit to export one male captive-bred giant panda (Ailuropoda melanoleuca) born at the zoo in 2005 and owned by the Government of China, to the China Wildlife Conservation Association under the terms of their loan agreement with China. This export is part of the approved loan program for the purpose of enhancement of the survival of the species through scientific research as outlined in National Zoo's original permit (MA 007870).

The following applicants each request a permit to import the sport-hunted trophy of one male bontebok (Damaliscus pygargus pygargus) culled from a captive herd maintained under the management program of the Republic of South Africa, for the purpose of enhancement of the survival of the species.

Applicant: John Meldrum, Metamora, MI, PRT-233599

Applicant: Carl Wagner, Harwood, MD, PRT-234069

Dated: December 4, 2009
Brenda Tapia
Program Analyst, Branch of Permits, Division of Management Authority

[FR Doc. E9-29885 Filed 12-15-09; 8:45 am]

BILLING CODE 4310-55-S